DEPARTMENT OF LABOR

Employment and Training Administration

Workforce Investment Act Native American Employment and Training Council

AGENCY: Employment and Training Administration, Labor.

ACTION: Notice of meeting.

SUMMARY: Pursuant to Section 10(a)(2) of the Federal Advisory Committee Act (Pub. L. 92-463), as amended, and Section 166(h)(4) of the Workforce Investment Act (WIA) [29 U.S.C. 2911(h)(4)], notice is hereby given of the next meeting of the Native American Employment and Training Council, as constituted under WIA.

Time and Date: The meeting will begin at 1:45 p.m., Central Daylight Time (CDT) on Tuesday, May 20, 2008, and continue until 3:15 p.m. that day. The meeting will reconvene at 10:30 a.m. (CDT) on Wednesday, May 21, 2008, and continue until 5 p.m. that day. The meeting will reconvene at 10:30 a.m. (CDT) on Thursday, May 22, 2008, and adjourn at 4:30 p.m. that day. The period from 2:30 p.m. to 4:30 p.m. on May 22, 2008, will be reserved for participation and presentations by members of the public.

Location: All sessions will be held at the Ho-Chunk Convention Center, South 3214 Highway 12, Lower Dells Salon A and B, Wisconsin Dells, Wisconsin 53913.

Status: The meeting will be open to the public. Members of the public not present may submit a written statement on or before May 14, 2008, to be included in the record of the meeting. Statements are to be submitted to Mrs. Evangeline M. Campbell, Designated Federal Official, U.S. Department of Labor, 200 Constitution Avenue, NW., Room S-4209, Washington, DC 20210. Persons who need special accommodations should contact Mr. Craig Lewis at (202) 693-3384 at least two business days before the meeting.

Matters To Be Considered: The formal agenda will focus on the following topics: (1) U.S. Department of Labor, Employment and Training Administration Update; (2) The Native American Talent and Economic Development initiative; (3) Indian and Native American Program Update; (4) Program Year 2006 Performance; (5) Fiscal Year 2009 Funding; (6) Designations and Two-Year Strategic Planning Guidance; (7) Council Nominations Update; (8) Public Law 102-477 Update; (9) Workgroup Reports; and (10) Council Recommendations.

FOR FURTHER INFORMATION CONTACT: Ms. Campbell, at telephone number (202) 693-3737 (this is not a toll-free number).

Signed at Washington, DC, this 9th day of April, 2008.
Brent R. Orrell,
Acting Assistant Secretary, Employment and Training Administration.

[FR Doc. E8-7906 Filed 4-14-08; 8:45 am]

BILLING CODE 4510-FN-P